DEPARTMENT OF EDUCATION

[Docket No.: ED-2023-SCC-0033]

Agency Information Collection Activities; Submission to the Office of Management and Budget for Review and Approval; Comment Request; Formula Grant EASIE Electronic Application System for Indian Education

AGENCY: Office of Elementary and Secondary Education (OESE), Department of Education (ED).

ACTION: Notice.

SUMMARY: In accordance with the Paperwork Reduction Act (PRA) of 1995, the Department is proposing a revision of a currently approved information collection request (ICR).

DATES: Interested persons are invited to submit comments on or before June 1, 2023.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Crystal Moore, (202) 453-5593.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Formula Grant EASIE Electronic Application System for Indian Education.

OMB Control Number: 1810-0021.

Type of Review: Revision of a currently approved ICR.

Respondents/Affected Public: State, Local, and Tribal Governments.

Total Estimated Number of Annual Responses: 11,300.

Total Estimated Number of Annual Burden Hours: 6,725.

Abstract: This is a revision request for the Indian Parent Committee Approval form that is a part of the OMB approved 1810-0021 collection. The Indian Education Formula Grant (ALN 84.060A) program provides grants to local education agencies (LEAs), Indian Tribe(s), Indian organizations (IOs) or Indian community-based organizations (ICBOs) who create programs to meet the unique cultural, language, and educational needs of American Indian and Alaska Native students to ensure that all students meet the challenging State academic standards. The programs must be used to carry out a comprehensive program for Indian students and must supplement the regular school program.

The Indian Education Formula Grant requires the annual submission of the Electronic Application System for Indian Education (Formula Grant EASIE) through an electronic portal housed on Federally managed and secured servers (computers). The system is web-based and includes the entire applicant submission process. The Office of Indian Education (OIE) is submitting this request to update the Indian Parent Committee Approval form to include the submission of meeting minutes.

Dated: April 27, 2023.
Kun Mullan,
PRA Coordinator, Strategic Collections and Clearance, Governance and Strategy Division, Office of Chief Data Officer, Office of Planning, Evaluation and Policy Development.

[FR Doc. 2023-09232 Filed 5-1-23; 8:45 am]

BILLING CODE 4000-01-P